DEPARTMENT OF HEALTH AND HUMAN SERVICES

National Institutes of Health

Center for Scientific Review; Amended Notice of Meeting

Notice is hereby given of a change in the meeting of the Risk, Prevention and Intervention for Addictions Study Section, October 03, 2013, 08:00 a.m. to October 04, 2013, 05:30 p.m., Renaissance Mayflower Hotel, 1127 Connecticut Avenue NW., Washington, DC 20036 which was published in the Federal Register on September 09, 2013, 78 FR 55086-55087.

The meeting will be held on December 9, 2013, 8:00 a.m. to 7:00 p.m. The meeting location remains the same. The meeting is closed to the public.

Dated: October 25, 2013.
Anna Snouffer,
Deputy Director, Office of Federal Advisory Committee Policy.

[FR Doc. 2013-25764 Filed 10-29-13; 8:45 am]

BILLING CODE 4140-01-P